DEPARTMENT OF THE INTERIOR

Bureau of Ocean Energy Management

[MAA104000]

Request for Information and Comments on the Preparation of the 2017-2022 Outer Continental Shelf (OCS) Oil and Gas Leasing Program

AGENCY: Bureau of Ocean Energy Management (BOEM), Interior.

ACTION: Request for Information and Comments.

SUMMARY: Section 18 of the OCS Lands Act (43 U.S.C. 1344) requires the Department of the Interior (DOI) to invite and solicit information from interested and affected parties during the preparation of a Five Year OCS Oil and Gas Leasing Program (Five Year Program). The current Five Year Program became effective on August 27, 2012, and will expire on August 26, 2017 (2012-2017 Program). BOEM intends to prepare a new Five Year Program to succeed the current one and cover the period from July 2017 to June 2022 (2017-2022 Program).

Section 18 of the OCS Lands Act requires the completion of a multi-step process of public consultation and analysis before the Secretary of the Interior (Secretary) may approve a new Five Year Program. The process required by section 18 of the OCS Lands Act includes the following steps: (1) Issuance of a Request for Information and Comments (RFI); (2) development of a Draft Proposed Program (DPP), a Proposed Program (PP), and a Proposed Final Program (PFP); and (3) Secretarial approval of a Final Program. During the development of the new Five Year Program, BOEM will prepare a Programmatic Environmental Impact Statement (PEIS), pursuant to the National Environmental Policy Act (NEPA), 43 U.S.C. 4321 et seq., in order to inform program decisions. The public will have opportunities to comment on the DPP, the Draft PEIS, and the PP.

DATES: BOEM must receive all comments and information by July 31, 2014.

FOR FURTHER INFORMATION CONTACT: Ms. Kelly Hammerle, Five Year Program Manager, at (703) 787-1613.

SUPPLEMENTARY INFORMATION: BOEM requests information and comments from States, local and tribal governments, Native American and Native Alaskan organizations, Federal agencies, environmental and fish and wildlife organizations, the oil and gas industry, non-energy industries, other interested organizations and entities, and the general public, for use in the preparation of the 2017-2022 Program. BOEM is seeking a wide array of information including, but not limited to, information associated with the economic, social, and environmental values of all OCS resources, as well as the potential impact of oil and gas exploration and development on other resource values of the OCS and the marine, coastal and human environments.

The Five Year Program sets forth the proposed schedule of lease sales for the subsequent five-year period, and enables the Federal Government, States, industry, and other interested parties to begin planning for the later steps in the leasing process. The Secretary decides whether to proceed with a specific lease sale on the schedule included in an approved Five Year Program only after meeting all the requirements of the OCS Lands Act, NEPA, and other applicable statutes.

The preparation and subsequent approval of a new Five Year Program is a key aspect for the implementation of President Barack Obama's all-of-the-above energy strategy. The strategy includes expanding the safe and responsible production of U.S. domestic oil and gas supplies, both offshore and onshore, and seeking out regulatory and oversight efficiencies, so as to create a more efficient and predictable oil and gas leasing environment for government, industry and other stakeholders.

The OCS is a significant contributor of oil and gas to the Nation's energy supply. As of May 2014, BOEM administered over 6,200 active oil and gas leases covering nearly 34 million OCS acres. Production from these leases generates billions of dollars in revenue for the Federal Treasury and State governments while supporting hundreds of thousands of jobs. In 2013, oil and gas leases on the OCS accounted for approximately 18 percent of domestic oil production and 5 percent of domestic natural gas production. The offshore areas of the United States also are estimated to contain significant quantities of resources in yet-to-be-discovered fields. BOEM estimates that the undiscovered, technically recoverable oil and gas resources in the United States' OCS consist of 89.93 billion barrels of oil and 404.52 trillion cubic feet of natural gas.

BOEM currently is implementing the 2012-2017 Program, which makes available for oil and gas leasing, subject to environmental safeguards, OCS areas with the greatest resource potential. Together, these areas contain more than 75 percent of the undiscovered, technically recoverable oil and gas resources estimated to exist in the United States OCS.

Gulf of Mexico (GOM)

BOEM has held five lease sales in the GOM since the approval of the 2012-2017 Program, including annual sales in the Central and Western GOM and a single sale in the portion of the Eastern GOM not subject to the Congressional moratorium and made available for leasing by Gulf of Mexico Energy Security Act (GOMESA). These sales have generated over $2.295 billion in high bids.

Lease Sale 229 in the Western GOM was held on November 28, 2012. In this sale, 13 companies submitted 131 bids totaling over $133 million in high bids. Lease Sale 227 in the Central GOM was held on March 20, 2013. The sale generated over $1.2 billion in high bids for 320 blocks by 52 companies. Lease Sale 233 in the Western GOM was held on August 28, 2013. The sale generated over $102 million in high bids for 53 blocks by 12 companies. Lease Sales 225 in the Eastern GOM and Sale 231 in the Central GOM were held on March 19, 2014. No bids were received for Sale 225. Lease Sale 231 garnered over $870 million in high bids on 326 lease blocks by 42 companies.

BOEM is also moving forward in the prelease sale process for the remaining sales scheduled in the current Program, which includes annual lease sales in the Central and Western GOM and an additional lease sale in the Eastern GOM in 2016. For more information on lease sales, visit: http://www.boem.gov/Oil-and-Gas-Energy-Program/Leasing/Five-Year-Program/Lease-Sale-Schedule/2012-2017-Lease-Sale-Schedule.aspx.

The Gulf of Mexico continues to experience successes in oil and gas exploration and development. Since June 2012, operators have announced nine new discoveries, all located in the Central Planning Area, in lease blocks belonging to the Mississippi Canyon, Green Canyon, Garden Banks, Walker Ridge, and Sigsbee Escarpment protraction areas. More information on new activities can be found at: http://www.boem.gov/Five-Year-Program-Annual-Progress-Report-2013/.

Alaska

DOI also is moving forward with overseeing safe and responsible offshore oil and gas exploration in frontier areas, including certain areas in the Arctic. The Arctic holds substantial oil and gas potential, but also presents unique environmental and operational challenges. Offshore exploration in the Arctic must occur in a way that is safe, responsible, and respectful of the Alaska Native communities that depend on the ocean for subsistence.

To address these concerns, the current Program laid out a regionally-tailored, targeted leasing strategy in the Arctic that differs from the area-wide leasing model that is appropriate for the GOM, and is designed to result in a more focused leasing configuration that offers areas with the most promising oil and gas resource potential while also protecting areas with environmentally sensitive habitats and important social and cultural uses, including subsistence hunting and fishing activity.

Guided by this strategy, BOEM has begun the presale process by issuing the Call for Information (Call) for Chukchi Lease Sale 237 and Cook Inlet Lease Sale 244, both scheduled for 2016. The Call is an early step in the offshore oil and gas planning process and does not indicate a final decision about any areas that may be offered for oil and gas leasing in the future. BOEM will make decisions about potential areas for leasing after evaluating industry interest in the resource potential of specific areas, continuing its development and analysis of scientific information and traditional knowledge regarding environmental issues and potential conflicts with uses such as subsistence hunting and fishing, and conducting thorough environmental reviews and consultations under the National Environmental Policy Act and other laws. BOEM also will coordinate closely with other relevant Federal agencies, the State of Alaska and local governments, Alaska Native tribes and organizations, and stakeholders throughout this process.

Additionally, DOI has continued its coordination efforts through the Interagency Working Group on Coordination of Domestic Energy Development and Planning in Alaska, which was established in July 2011 through Executive Order 13580 and chaired by DOI. The Working Group has taken the lead on coordinating and finding efficiencies in the permitting process of energy projects across relevant Federal agencies.

Ongoing scientific studies and potential exploration in the coming years will inform leasing decisions for potential Arctic lease sales scheduled for the remainder of the 2012-2017 Program and future Five Year Programs.

Atlantic

While the three Atlantic planning areas are not included in the 2012-2017 Program, DOI is pursuing a specific strategy to evaluate potential future offshore oil and gas leasing in these areas. On February 27, 2014, BOEM completed a Programmatic EIS (PEIS) that evaluates the potential environmental impacts of proposed geological and geophysical (G&G) activities in the Mid- and South Atlantic (hereinafter, the PEIS). The preparation of the PEIS is part of a region-specific strategy to responsibly develop new information about the significance and location of oil and gas resources in the area. The PEIS provides critical information to support renewable energy and marine mineral G&G surveying. BOEM also has been working to identify and evaluate potential conflicts with other uses of these areas, particularly military activities. Any new data resulting from G&G activities performed in the Atlantic, as well as input received from stakeholders, including the general public, will provide BOEM with additional information to inform decisions concerning, potential leasing activities in the Atlantic.

Pacific Region

The four planning areas off the Pacific coast were not included for potential leasing in the 2012-2017 Program. This determination was consistent with the requirements of section 18 of the Act, which gives priority leasing consideration to areas where the combination of previous experience; local, state, and national laws and policies; and expressions of industry interest indicate that potential leasing and development activities could be expected to proceed in an orderly manner. The exclusion of the Pacific coast in the 2012-2017 Program is consistent with the long-standing interests of west coast states, as framed in an agreement that the governors of California, Washington, and Oregon signed in 2006. This agreement expressed the governors' opposition to oil and gas development off their coasts.

Eleven OCS oil and gas lease sales have been in the Pacific Region between 1963 and 1984. As a result of congressional moratoria and, later, presidential action, the Pacific OCS has not been included in any Five Year Program since the 1987-1992 Program. A total of 470 leases were issued in these 11 sales, and today, there are 43 producing leases and 23 oil and gas platforms (with six operators), all offshore southern California.

National Energy Needs

Section 18 of the OCS Lands Act requires that the Secretary consider national energy needs in formulating the Five Year Program. In developing the Five Year Program, BOEM will present an analysis of the Nation's anticipated energy needs. The analysis will include discussions of the U.S. Department of Energy's (DOE) projections of national energy needs in the Annual Energy Outlook (AEO), the potential contribution of OCS oil and natural gas production in meeting those needs, alternatives to OCS production, and considerations relating to regional energy needs. BOEM invites comments from anyone who would like to submit information related to the Nation's future energy needs for consideration in determining the appropriate size, timing, and location of OCS oil and gas leasing for the new Five-Year Program.

OCS Planning Areas To Be Considered and Analyzed

Section 18 of the OCS Lands Act requires that the Five Year Program be based upon a consideration of a comparative analysis of the oil- and gas-bearing regions of the OCS. BOEM has divided the OCS into 26 Planning Areas, which are depicted in Figures 1 and 2. The depicted maritime boundaries and limits, as well as divisions between planning areas, where shown, are for planning and administrative purposes only. Note that precise maritime boundaries between the United States and nearby or adjacent nations have not been determined in all cases. These depictions do not affect or prejudice in any manner the position of the United States, or its individual States, with respect to the nature or extent of internal waters or of sovereign rights or jurisdiction.

Through the enactment of GOMESA, Congress, through June 30, 2022, placed off-limits to OCS oil and gas leasing, activities the Eastern Gulf of Mexico within 125 miles of Florida; all of the Eastern Gulf of Mexico east of 86 degrees, 41 minutes West longitude; and a portion of the Central Gulf of Mexico within 100 miles of Florida (see Figure 2).

The North Aleutian Basin, which includes the rich and vital fishing resources of Bristol Bay, was withdrawn from leasing consideration by the President in a statement on March 31, 2010, pursuant to section 12(a) of the OCS lands Act, 43 U.S.C. 1341(a). The withdrawal expires on July 1, 2017. Barring any further action, the North Aleutian Basin will be available for consideration in the 2017-2022 Program.

This notice requests information on all 26 planning areas, including areas currently under moratorium or otherwise withdrawn. As set forth in more detail later in this notice, the information requested is wide-ranging, including information on other uses of the sea, marine productivity, and environmental sensitivity. Accordingly, this notice invites and provides an opportunity for Governors of affected States, local government, industry, Federal agencies, and the general public, to provide suggestions and any other information they consider BOEM should evaluate for purposes of the 2017-2022 Program. The information solicited in this RFI will be considered in light of the factors specified by section 18 of the OCS Lands Act, which are discussed later in this notice. Based upon consideration of the analysis of those factors, the Secretary will prepare the DPP and decide which areas to include therein. Pursuant to section 18 of the OCS Lands Act, areas included in the DPP will be subject to further analysis as required under applicable law including, but not limited to, the environmental review process required under NEPA.

Section 18 of the OCS Lands Act

As previously noted, the Five Year Program preparation process will follow all the procedural and substantive requirements of section 18 of the OCS Lands Act. This notice solicits information and comments early in the preparation process pursuant to section 18(c)(1) of the OCSLA. BOEM will prepare a DPP based upon consideration of the information and comments received and analysis of the principles and factors specified in section 18 of the OCSLA. The DPP will present for review and comment a preliminary schedule of proposed lease sales and potential decision options.

Section 18 of the OCS Lands Act provides that, for purposes of preparing a Five Year Program, the Secretary should take into consideration the economic, social, and environmental values of all OCS resources, as well as the potential impact of oil and gas exploration and development on other resource values of the OCS and the marine, coastal and human environments. The eight factors that must be considered in determining the timing and location of leasing under the Five Year Program are set forth in section 18(a)(2) of the OCS Lands act, 43 U.S.C. 1344(a)(2). They include: (1) The existing information on the geographical, geological, and ecological characteristics of OCS regions; (2) equitable sharing of developmental benefits and environmental risks among the various regions; (3) the location of such regions with respect to, and the relative needs of regional and national energy markets; (4) the location of such regions with respect to other uses of the sea and seabed, including fisheries, navigation, existing or proposed sea lanes, potential sites of deepwater ports, and other anticipated uses of the resources and space of the OCS; (5) expressed industry interest in the development of oil and gas resources; (6) laws, goals, and policies of affected States specifically identified by governors; (7) the relative environmental sensitivity and marine productivity of different areas of the OCS; and (8) environmental and predictive information for different areas of the OCS.

The OCS Lands Act requires the Secretary to obtain a proper balance among the potential for environmental damage, the potential for discovery of oil and gas, and the potential for adverse impact on the coastal zone, for which the DOI will provide a cost-benefit analysis as appropriate to supplement qualitative consideration of these factors. The OCS Lands Act also requires that leasing activities assure the receipt of fair market value for the lands leased and rights conveyed by the Federal Government in the OCS.

Types of Information Requested

BOEM invites comments from anyone who would like to submit information and/or suggestions for consideration in determining, among others, the appropriate size, timing, and location of potential OCS oil and lease sales under the 2017-2022 Program. The type of information being requested by BOEM in this RFI is described below using general and specific headings. Regardless of these headings, please note that BOEM invites all private and public stakeholders, as well as the general public, to comment or provide any information that should be taken into consideration by BOEM during the preparation of the 2017-2022 Program.

General Information Requested

BOEM would like to receive comments and suggestions of national or regional application that would be useful in formulating the Five Year Program. The types of information that would be most useful in conducting the analysis, pursuant to section 18 of the OCS Lands Act, relate to the following factors:

(1) National energy needs for the period relevant to the new Five Year Program (i.e., July, 2017 to June, 2022), in particular, the role of OCS oil and gas leasing activities in achieving national energy policy goals; the economic, social, and environmental values of the renewable and nonrenewable resources contained in the OCS; and the potential impact of oil and gas exploration and development on other OCS resource values and the marine, coastal, and human environments;

(2) existing information concerning geographical, geological, and ecological characteristics of the OCS planning areas and near shore and coastal environments;

(3) equitable sharing of developmental benefits and environmental risks among the various planning areas;

(4) location of planning areas with respect to, and the relative needs of, regional and national energy markets;

(5) other uses of the sea and seabed, including fisheries; navigation; military activities; existing or proposed sea lanes; potential sites of deepwater ports (including liquefied natural gas facilities); potential offshore wind, wave, current, or other alternative energy sites; and other anticipated uses of OCS resources and locations;

(6) relative environmental sensitivity and marine productivity of the different planning areas and/or a specific section(s) of a given OCS planning area;

(7) environmental and predictive information pertaining to offshore and coastal areas potentially affected by OCS oil and gas development including, but not limited to, socio-cultural and archaeological information; and

(8) methods and procedures for assuring the receipt of fair market value for lands leased.

Fair Market Value Information Requested

In developing the methods and procedures for assuring the receipt of fair market value for lands leased under section 18(a)(4) of the OCS Lands Act, 43 U.S.C. 1344(a)(4), BOEM sets lease fiscal and temporal terms, and other features relevant to bidding. Given BOEM's responsibility to ensure a fair market value return to the U.S. Government, BOEM is seeking information in response to the following questions:

(1) If DOI continues leasing in the Gulf of Mexico planning areas, are there changes to lease terms that will better meet the objectives of the OCS Lands Act? Lease terms subject to change include:

a. Minimum bids

b. Rental rates

c. Royalty rates, royalty structures (e.g., flat or sliding scale)

d. Initial period (also known as primary term) of the lease term and extended initial period (such as 7 years plus 3 years more if drilling commences)

(2) If DOI offers acreage for lease in planning areas outside the Gulf of Mexico, what fiscal terms for each planning area will best meet the objectives and limitations of the OCS Lands Act regarding the lease terms listed in items 1a. to 1d. above?

a. Is there an alternative design, e.g., auction-type design that may be better suited to achieve fair market value, either by changing the bidding variable or some other aspect of the competitive lease sale?

b. Should the upcoming program consider use of alternative and/or non-traditional fiscal terms, primary lease terms, auction formats, or tract offering sizes? Please state which of these features of the leasing process merit consideration for future use, where and under what conditions those changes might be useful, and explain why such a change is necessary or beneficial, e.g., demonstrate that exploration would not occur in selected frontier areas without larger than traditionally-sized tracts in lease sales.

Please note that BOEM is requesting information on these topics, as well as on the above fiscal topics, to inform its continuing evaluation of market conditions, available resources, bidding patterns (if applicable), and competitiveness of OCS lease terms with respect to each proposed sale. BOEM is asking for public input regarding lease terms or potential changes to lease terms concerning acreage offered during the 2017-2022 Program. BOEM also invites commenters to respond to the following questions:

(1) What do you think is the proper role of OCS oil and gas leasing as part of a comprehensive national energy policy? How should the Five Year Program be structured to fulfill this role?

(2) Should areas not included in the 2012-2017 Five Year Program be included in the new Five Year Program? If so, what areas should be included and what should be the proposed timeframe for lease sales in these areas?

(3) Although OCS oil and gas leasing typically is conducted through an extensive, long-established process, are there alternative ways to ensure appropriate consultation and to streamline the leasing procedures? How might BOEM best meet the purpose of the OCS Lands Act “to insure that the extent of oil and gas resources of the outer Continental Shelf is assessed at the earliest practicable time?”

(4) If new areas are leased for exploration and potential development, what short-term and long-term impacts can be foreseen for the economies of coastal communities?

(5) If new areas are considered for oil and gas leasing, how should ecological considerations be weighed against national and local economic benefits?

(6) If new areas are not leased for exploration and potential development, what environmental impacts do you foresee from other sources of energy?

(7) While increased domestic onshore production is not expected to fully replace imports of crude oil over the life of the new Five Year Program, new production, market factors, and other forces have allowed U.S. refineries to export more petroleum products than the Nation imported in each of the last few years. Should this affect decisions as to size, timing, and location (especially for frontier areas) of future OCS oil and gas leasing?

(8) Increased onshore production also could potentially lead to exports of liquefied natural gas (LNG) in the near future. Should the potential for LNG or other exports affect decisions as to size, timing, and location (especially for frontier areas) of future oil and gas leasing?

Specific Information Requested

From States

For coastal States, pursuant to section 18(f)(5) of the OCS Lands Act (43 U.S.C. 1344(f)(5)) and implementing regulations at 30 CFR 556.20, BOEM requests information concerning the relationship between OCS oil and gas activity and the States' coastal zone management programs that are being developed, or are administered, under section 305 or 306 of the Coastal Zone Management Act of 1972, as amended, (16 U.S.C. 1454, 1455). BOEM also requests that non-coastal and coastal States submit information concerning environmental risk and potential for damage to coastal and marine resources associated with OCS development, information related to other uses of the sea, and any information that is relevant to equitable sharing of developmental benefits and environmental risks associated with OCS oil and gas activity (or the likely energy substitutes in the absence of new OCS leasing). In addition, for non-coastal and coastal States, information is requested on the impacts of rising hydrocarbon product prices and potential shortages on the State and national economies and citizens.

From Oil and Gas Industry

Pursuant to section 18(a)(2)(E) of the OCS Lands Act (43 U.S.C. 1344(a)(2)(E)), the interest of oil and gas producers in the development of oil and gas resources, as indicated by exploration or nomination, should be taken into account during the preparation of the Five Year Program. Industry respondents should base this information upon their expectations as of 2014. For each planning area in which industry respondents are interested, they should submit information concerning unleased hydrocarbon potential, future oil and gas price expectations, and other relevant information that the industry respondent uses in making OCS oil and gas leasing decisions. BOEM requests that industry respondents provide additional information, as specified below:

(1) Indicate the OCS Planning Area(s) where the industry respondent would be interested in acquiring oil and gas leases, regardless of whether the area currently is unavailable. If more than one Planning Area is of interest, rank all areas of interest (including those now being offered, if appropriate) in order of preference.

(2) Indicate the number and timing of lease sales in the period 2017-2022 that would be appropriate for each Planning Area. If only one lease sale in a Planning Area is appropriate, indicate whether that area should be considered for leasing early or late in the five-year schedule. If more than one lease sale in a planning area is suggested, indicate the preferred interval between lease sales.

(3) Indicate the lead time to production in areas that are not part of the 2012-2017 Program or currently do not have infrastructure or production, relative to lead-times to new production in previously leased areas like the Central and Western Gulf of Mexico.

Section 18(g) of the OCS Lands Act (43 U.S.C. 1344(g)) authorizes confidential treatment of privileged or proprietary information. In order to protect the confidentiality of privileged or proprietary information, industry respondents should include such information as an attachment to other comments submitted, and should clearly note that the attachment contains privileged or proprietary information, so that there is no ambiguity about what portions of the comments are confidential or proprietary. Upon request, BOEM will treat the privileged or proprietary information that is attached to a response as confidential from the time of its receipt until five years after approval of the 2017-2022 Program, in a manner consistent with the Freedom of Information Act. However, BOEM will not treat as confidential any aggregate summaries of privileged or proprietary information, the names of industry respondents, or comments not containing this information. If submitting comments or information in hard copy, industry respondents should affix the label “Contains Confidential Information” on any envelope containing privileged or proprietary information.

From the U.S. Department of Commerce

Pursuant to section 18(f)(5) of the OCS Lands Act (43 U.S.C. 1344(f)(5)) and implementing regulations at 30 CFR 556.20, BOEM requests information concerning relationships between affected States' coastal zone management programs and OCS oil and gas activities. In coordination with this notice, BOEM will also send a letter to the Secretary of Commerce soliciting such information.

From the U.S. Department of Energy

Pursuant to implementing regulations at 30 CFR 556.16, BOEM requests information concerning regional and national energy markets, OCS production goals, and on transportation networks. In coordination with this notice, BOEM will also send a letter to the Secretary of Energy soliciting such information.

Public Comment Procedure

BOEM will accept comments in one of two formats: Internet commenting system or regular mail. BOEM's preference is to receive comments via the Internet commenting system. Comments should be submitted using only one of these formats, and include full names and addresses of the individual submitting the comment(s). Comments submitted by other means may not be considered. BOEM will not consider anonymous comments. BOEM will make available for public inspection in their entirety, all comments submitted by organizations and businesses, or by individuals identifying themselves as representatives of organizations or businesses.

BOEM's practice is to make comments, including the names and addresses of individuals, available for public review. An individual commenter may ask that BOEM withhold from the public record his or her name, home address, or both, and BOEM will honor such a request to the extent allowable by law. If individuals submit comments and desire withholding of such information, they must so state prominently at the beginning of their submission.

Commenting via Internet

Internet comments should be submitted via the Federal eRulemaking Portal at http://www.regulations.gov. BOEM requests that commenters follow these instructions to submit their comments via this Web site:

(1) In the search tab on the main page, search for BOEM-2014-0059.

(2) Locate the document, then click the “Submit a Comment” link either on the Search Results page or the Document Details page. This will display the Web comment form.

(3) Enter the submitter information and type the comment on the Web form. Attach any additional files (up to 10MB). (Please do not forget to separately attach, and note, any privileged or proprietary information.)

(4) After typing the comment, click the “Preview Comment” link to review. Once satisfied with the comment, click the “Submit” button to send the comment.

Information on using Regulations.gov, including instructions for accessing documents, submitting comments, and viewing the docket after the close of the comment period, is available through the site's “User Tips” link.

Commenting via Regular Mail

Mail comments and information on the 2017-2022 Program to Ms. Kelly Hammerle, Five Year Program Manager, BOEM (HM-3120), 381 Elden Street, Herndon, Virginia 20170. Environmental comments relevant to oil and gas development on the OCS should be sent to Mr. James F. Bennett, Chief, Division of Environmental Assessment, BOEM (HM-3017), 381 Elden Street, Herndon, Virginia 20170. If commenters submit any privileged or proprietary information to be treated as confidential, they should mark the envelope “Contains Confidential Information.” BOEM will post all comments, subject to the limitations described above in this section.

Dated: May 22, 2014.
Walter D. Cruickshank,
Acting Director, Bureau of Ocean Energy Management.

BILLING CODE 4310-MR-P

[FR Doc. 2014-14039 Filed 6-13-14; 8:45 am]

BILLING CODE 4310-MR-C